DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

Proposed Project: Ryan White Comprehensive AIDS Resources Emergency (CARE) Act: CARE Act Data Report (CADR) Form: (OMB No. 0915-0253)—Revision

The CARE Act Data Report (CADR) form, created in 1999 by the HIV/AIDS Bureau of the Health Resources and Services Administration (HRSA), is designed to collect information from grantees, as well as their subcontracted service providers, funded under Titles I, II, III and IV of the Ryan White (CARE) Act of 1990, as amended by the Ryan White CARE Act Amendments of 1996 and 2000 (codified under Title XXVI of the Public Health Services Act). All Titles of the CARE Act specify HRSA's responsibilities in the administration of grant funds, the allocation of funds, the evaluation of programs for the population served, and the improvement of the quantity and quality of care. Accurate records of the providers receiving CARE Act funding, the services provided, and the clients served continue to be critical to the implementation of the legislation and thus are necessary for HRSA to fulfill its responsibilities.

CARE Act grantees are required to report aggregate data to HRSA annually. The CADR form is used by grantees and their subcontracted service providers to report data on six different areas: Service provider information, client information, services provided/clients served, demographic information, AIDS Pharmaceutical Assistance and AIDS Drug Assistance Program, and the Health Insurance Program. The primary purposes of the CADR are to: (1) Characterize the organizations from which clients receive services; (2) provide information on the number and characteristics of clients who receive CARE Act services; and (3) enable HAB to describe the type and amount of services a client receives. In addition to meeting the goal of accountability to Congress, clients, advocacy groups, and the general public, information collected on the CADR is critical for HRSA, State and local grantees, and individual providers to assess the status of existing HIV-related service delivery systems.

The estimated response burden for grantees is estimated as:

Title under which grantee is funded | Number of grantee respondents | Responses per grantee | Hours to coordinate receipt of data reports from | Total hour burden
Title I Only | 51 | 1 | 40 | 2,040
TitleII Only | 59 | 1 | 40 | 2,360
Title III Only | 337 | 1 | 8 | 2,696
Title IV Only | 90 | 1 | 16 | 1,440
Subtotal | 537 |  |  | 8,536

The estimated response burden for service providers is estimated as:

Title under which grantee is funded | Number of respondents | Responses per provider | Hours per response | Total hour burden
Title I Only | 1,175 | 1 | 24 | 28,200
Title II Only | 995 | 1 | 40 | 39,800
Title III Only | 248 | 1 | 40 | 9,920
Title IV Only | 98 | 1 | 40 | 3,920
Funded under | 394 | 1 | 48 | 18,912
Subtotal | 2,782 |  |  | 100,752
Total | 3,319 |  |  | 109,288

Written comments and recommendations concerning the proposed information collection should be sent within 30 days of this notice to: Allison Eydt, Human Resources and Housing Branch, Office of Management and Budget, New Executive Office Building, Room 10235, Washington, DC 20503, Fax Number, 202-395-6974.

Dated: July 24, 2003.
Jane M. Harrison,
Director, Division of Policy Review and Coordination.

[FR Doc. 03-19444 Filed 7-30-03; 8:45 am]

BILLING CODE 4165-15-P